DEPARTMENT OF TRANSPORTATION

Coast Guard

33 CFR Part 117

[CGD08-01-027]

Drawbridge Operating Regulation; Port Allen Canal, LA

AGENCY: Coast Guard, DOT.

ACTION: Notice of temporary deviation from regulations.

SUMMARY: The Commander, Eighth Coast Guard District has issued a temporary deviation from the regulation governing the operation of the Union Pacific Railroad vertical lift bridge across the Gulf Intracoastal Waterway, Morgan City to Port Allen (Alternate Route), mile 56.0, on the Port Allen Canal near Morley, West Baton Rouge Parish, Louisiana. This deviation allows the Union Pacific Railroad to close the bridge to navigation from 7 a.m. until 7 p.m. on Monday, September 10, 2001 and from 7 a.m. until 7 p.m. on Wednesday, September 12, 2001. Presently, the draw is required to open on signal. This temporary deviation is issued to allow for the removal of the existing bridge joint components and set new panels on the moveable and the fixed ends of the bridge.

DATES: This deviation is effective from 7 a.m. on Monday, September 10, 2001 until 7 p.m. on Wednesday, September 12, 2001.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: David Frank, Bridge Administration Branch, telephone (504) 589-2965.

SUPPLEMENTARY INFORMATION: The Union Pacific Railroad vertical lift span bridge across the Gulf Intracoastal Waterway, Morgan City to Port Allen (Alternate Route), mile 56.0, on the Port Allen Canal near Morley, West Baton Rouge Parish, Louisiana, has a vertical clearance of 7 feet above high water in the closed-to-navigation position and 73 feet above mean high water in the open-to-navigation position. Navigation on the waterway consists mainly of tugs with tows. The Union Pacific Railroad requested a temporary deviation from the normal operation of the drawbridge in order to accommodate the maintenance and repair work on the bridge. These repairs are necessary for the continued operation of the bridge.

This deviation allows the draw of the Union Pacific Railroad vertical lift span drawbridge across the Gulf Intracoastal Waterway, Morgan City to Port Allen (Alternate Route), mile 56.0, on the Port Allen Canal, to remain closed to navigation from 7 a.m. until 7 p.m. on Monday, September 10, 2001 and from 7 a.m. until 7 p.m. on Wednesday, September 12, 2001.

Dated: August 27, 2001.
Roy J. Casto,
Rear Admiral, U.S. Coast Guard, Commander, Eighth Coast Guard District.

[FR Doc. 01-22393 Filed 9-5-01; 8:45 am]

BILLING CODE 4910-15-P